DEPARTMENT OF TRANSPORTATION

Federal Railroad Administration

Notice of Final Federal Agency Action on Proposed Rail Transportation Project

AGENCY: Federal Railroad Administration (FRA), Department of Transportation (DOT).

ACTION: Notice.

SUMMARY: This notice announces final environmental action taken by the Federal Railroad Administration (FRA) for the Cajon Pass High-Speed Rail Project. The purpose of this notice is to advise the public of the time limit to file any claims that may challenge this decision and other Federal permits, licenses, and approvals for the project.

DATES: A claim seeking judicial review of Federal agency actions for the listed rail transportation project will be barred unless the claim is filed on or before July 28, 2025. If the Federal law that authorizes judicial review of a claim provides a time period of less than two years for filing such claim, then the shorter time period applies.

FOR FURTHER INFORMATION CONTACT: For further information related to this notice, please contact Kathryn Johnson, Attorney-Adviser, Office of the Chief Counsel, 1200 New Jersey Avenue SE, Washington, DC 20590; telephone: (202) 731-0658, email: kathryn.johnson@dot.gov.

SUPPLEMENTARY INFORMATION: Notice is hereby given that FRA has taken final agency action by issuing certain approvals for the rail transportation project listed below. The action on the project, as well as the laws under which such action was taken, are described in the documentation issued for the project to comply with the National Environmental Policy Act (NEPA) and related environmental laws.

This notice applies to all Federal agency decisions on the project as of the issuance date of this notice and all Federal laws under which such actions were taken, including but not limited to, NEPA (42 U.S.C. 4321-4375); Section 4(f) of the USDOT Act of 1966 (49 U.S.C. 303); Section 106 of the National Historic Preservation Act (54 U.S.C. 306108); the Clean Air Act (42 U.S.C. 7401-7671q); the Endangered Species Act (16 U.S.C. 1531-1544); the Clean Water Act (33 U.S.C. 1251) and relevant Executive Orders including, E.O. 11990 Protection of Wetlands, E.O. 11988 Floodplain Management, E.O. 13112 Invasive Species, E.O. 12898 Federal Actions to Address Environmental Justice in Minority Populations and Low-Income Populations, and E.O. 13175 Consultation and Coordination with Indian Tribal Governments. The project that is the subject of this notice follows: Project name and location: Cajon Pass High-Speed Rail Project, Victor Valley to Rancho Cucamonga, California. Project Sponsor: Brightline West. Project Summary: The project sponsor proposes to construct and operate a 49-mile train system capable of reaching a top speed of approximately 140 miles per hour between Victor Valley and Rancho Cucamonga, California. The Project includes two new railway stations—one in Hesperia, and one in Rancho Cucamonga. The connecting station in Victor Valley was approved as part of a separate project that was evaluated in the DesertXpress Final Environmental Impact Statement issued by FRA in 2011.

FRA issued an environmental assessment for the Cajon Pass High-Speed Rail Project on October 26, 2022 and a Finding of No Significant Impact on July 12, 2023.

Authority: 49 U.S.C. 24201(a)(4) and 23 U.S.C. 139(l)(1).

Marlys Ann Osterhues,
Director, Office of Environmental Program Management.

[FR Doc. 2023-15864 Filed 7-26-23; 8:45 am]

BILLING CODE 4910-06-P